DEPARTMENT OF COMMERCE

International Trade Administration

(A-357-814, A-570-865, A-533-820, A-560-812, A-834-806, A-485-806, A-791-809, A-583-835, A-549-817, A-823-811)

Certain Hot-Rolled Carbon Steel Flat Products from Argentina, the People's Republic of China, India, Indonesia, Kazakhstan, Romania, South Africa, Taiwan, Thailand, and Ukraine; Final Results of Expedited Sunset Reviews of the Antidumping Duty Orders

AGENCY: Import Administration, International Trade Administration, Department of Commerce.

SUMMARY: On August 1, 2006, pursuant to section 751(c) of the Tariff Act of 1930, as amended (the “Act”), the Department of Commerce (the “Department”) initiated sunset reviews of the antidumping duty orders on certain hot-rolled carbon steel flat products from Argentina, the People's Republic of China (“PRC”), India, Indonesia, Kazakhstan, Romania, South Africa, Taiwan, Thailand, and Ukraine (collectively, the “Orders”). The Department has conducted expedited sunset reviews of the Orders and has determined that revocation of the Orders would be likely to lead to continuation or recurrence of dumping, in accordance with section 752(c) of the Act. The dumping margins likely to prevail are identified in the “Final Results of Sunset Reviews” section of this notice.

EFFECTIVE DATE: December 5, 2006.

FOR FURTHER INFORMATION CONTACT: Malcolm Burke (202) 482-3584, Office 4 (Argentina, the PRC, India, Indonesia, and Romania), Martha Douthit (202) 482-5050, Office 6 (Kazakhstan, South Africa and Ukraine), Deborah Scott (202) 482- 2657, Office 7 (Taiwan and Thailand), or Dana Mermelstein (202) 482-1391, Office 6, AD/CVD Operations, Import Administration, International Trade Administration, U.S. Department of Commerce, 14th Street & Constitution Avenue, NW, Washington, DC 20230.

SUPPLEMENTARY INFORMATION:

Background:

In August 2006, pursuant to section 751(c) of the Act, the Department published a notice of initiation of the sunset reviews of the Orders, among others.¹ The Department received notices of intent to participate from: United States Steel Corporation, Mittal Steel USA Inc., Nucor Corporation, Gallatin Steel Company, Steel Dynamics Inc., IPSCO Steel Inc., and United Steel, Paper and Forestry, Rubber, Manufacturing, Energy, Allied Industrial and Service Workers International Union (“USW”), within the deadline specified in 19 CFR § 351.218(d)(1)(i). These parties claimed interested party status under sections 771(9)(C) or (D) of the Act, as producers of a domestic like product, or as a union whose members are engaged in the production of a domestic like product.

¹ Initiation of Five-year (“Sunset”) Reviews, 71 FR 43,443 (Aug. 1, 2006).

The Department received complete substantive responses from the parties identified above, except for USW, within the deadline specified in 19 CFR § 351.218(d)(3)(i). The Department received no responses from respondent interested parties with respect to any of the Orders. As a result, pursuant to section 751(c)(3)(B) of the Act and 19 CFR § 351.218(e)(1)(ii) (C)(2), the Department has conducted expedited sunset reviews of the Orders.²

² See Letter to Mr. Robert Carpenter, Director, Office of Investigations, U.S. International Trade Commission, “Expedited and Full Sunset Reviews of the Antidumping and Countervailing Duty Orders Initiated in August 2006” (September 20, 2006).

Scope of the Orders

The products covered by the Orders are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Further particulars of the scopes of the Orders may be found in the following Federal Register notices as indicated for the country of production: for Argentina and South Africa,³ the PRC,⁴ India,⁵ Indonesia,⁶ Kazakhstan,⁷ Romania,⁸ Taiwan,⁹ Thailand,¹⁰ and Ukraine.¹¹ The merchandise is currently classified under the item numbers of the Harmonized Tariff Schedule of the United States (“HTSUS”) listed in the respective Federal Register notices identified above. Although the HTSUS item numbers are provided for convenience and customs purposes, the written descriptions of the scope of the Orders remain dispositive.

³ Notice of Antidumping Duty Orders: Certain Hot-Rolled Carbon Steel Flat Products From Argentina and the Republic of South Africa, 66 FR 48,242 (Sept. 19, 2001).

⁴ Notice of Antidumping Duty Order: Certain Hot-Rolled Carbon Steel Flat Products From the People's Republic of China, 66 FR 59,561 (Nov. 29, 2001).

⁵ Notice of Amended Final Antidumping Duty Determination of Sales at Less Than Fair Value and Antidumping Duty Order: Certain Hot-Rolled Carbon Steel Flat Products From India, 66 FR 60,194 (Dec. 3, 2001).

⁶ Antidumping Duty Order: Certain Hot-Rolled Carbon Steel Flat Products From Indonesia, 66 FR 60,192 (Dec. 3, 2001).

⁷ Antidumping Duty Order: Certain Hot-Rolled Carbon Steel Flat Products From Kazakhstan, 66 FR 58,435 (Nov. 21, 2001).

⁸ Notice of Amended Final Antidumping Duty Determination and Antidumping Duty Order: Certain Hot-Rolled Carbon Steel Flat Products From Romania, 66 FR 59,566 (Nov. 29, 2001).

⁹ Notice of Antidumping Duty Order; Certain Hot- Rolled Carbon Steel Flat Products From Taiwan, 66 FR 59,563 (Nov. 29, 2001).

¹⁰ Notice of Antidumping Duty Order; Certain Hot-Rolled Carbon Steel Flat Products From Thailand, 66 FR 59,562 (Nov. 29, 2001).

¹¹ Antidumping Duty Order: Certain Hot-Rolled Carbon Steel Flat Products From Ukraine, 66 FR 59,559 (Nov. 29, 2001).

Analysis of Comments Received

All issues raised in these reviews are addressed in the “Issues and Decision Memorandum for the Final Results of the Expedited Sunset Reviews of the Antidumping Duty Orders on Certain Hot-Rolled Carbon Steel Flat Products from Argentina, the People's Republic of China, India, Indonesia, Kazakhstan, Romania, South Africa, Taiwan, Thailand, and Ukraine, from Stephen J. Claeys, Deputy Assistant Secretary for Import Administration, to David M. Spooner Assistant Secretary for Import Administration, dated concurrently herewith (the “Decision Memorandum”), which is hereby adopted by this notice. A complete discussion of all issues raised in these reviews, including the likelihood of continuation or recurrence of dumping and the magnitude of the margins likely to prevail if the Orders were revoked, and the corresponding recommendations, may be found in the Decision Memorandum on file in Room B-099 of the Department of Commerce building. In addition, the Decision Memorandum may be viewed via the internet at http://ia.ita.doc.gov/frn.

Final Results of Sunset Reviews

We determine that revocation of the Orders would be likely to lead to continuation or recurrence of dumping at the following weighted-average percentage margins:

Country | Producer/Exporter | Weighted Average Margin
Argentina | Siderar SAIC | 44.59%%
| All others | 40.60%%
PRC | Angang Group International Trade Co. Ltd., New Iron & Steel Co., Ltd., and Angang GroupHong Kong Co., Ltd. | 31.09%%
| Shanghai Baosteel Group Corporation, Baoshan Iron & Steel Co., Ltd., and Baosteel Group International Trade Corporation | 12.39%%
| Benxi Iron & Steel Group International Economic & Trade Co., Ltd., Bengang Steel Plates Co., Ltd., and Benxi Iron & Steel Group Co., Ltd. | 57.19%%
| Panzhihua Iron and Steel (Group) Co. | 65.59%%
| Wuhan Iron and Steel Group Corporation | 65.59%%,
| PRC-wide | 90.83%%
India | Ispat Industries Ltd. | 44.40%%
| Essar Steel Ltd. | 36.53%%
| All others | 38.72%%
Indonesia | PT Krakatau Steel Corporation | 47.86%%
| All others | 47.86%%
Kazakhstan | Ispat Karmet | 243.46%%
| All others | 243.46%%
Romania | Sidex, S.A., Sidex Trading SRL, and Sidex International Plc. | 16.34%%
| Metalexportimport S.A. | 18.04%%
| Metanef S.A. | 21.59%%
| Metagrimex Business Group S.A. | 16.29%%
| All others | 88.62%%
South Africa | Highveld Steel and Vanadium Corporation Limited | 9.28%%
| Iscor Limited/Saldanha Steel Limited | 9.28%%
| All others | 9.28%%
Taiwan | An Feng Steel Co., Ltd | 29.14%%
| China Steel Corporation/Yieh Loong | 29.14%%
| All others | 20.28%%
Thailand | Siam Strip Mill Public Co., Ltd. | 20.30%%
| All others | 4.44%%
Ukraine | All others | 90.33%%

In accordance with section 752(c)(3) of the Act, we will notify the International Trade Commission of the final results of these expedited sunset reviews. This notice also serves as the only reminder to parties subject to administrative protective orders (“APO”) of their responsibility concerning the return or destruction of proprietary information disclosed under APO in accordance with 19 CFR § 351.305. Timely notification of the return or destruction of APO materials or conversion to judicial protective orders is hereby requested. Failure to comply with the regulations and terms of an APO is a sanctionable violation.

This notice is published in accordance with sections 751(c), 752(c), and 777(i)(1) of the Act.

Dated: November 28, 2006.
David M. Spooner,
Assistant Secretary for Import Administration.

[FR Doc. E6-20553 Filed 12-4-06; 8:45 am]

BILLING CODE 3510-DS-S